DEPARTMENT OF JUSTICE

Office of Justice Programs

[OMB Number 1121-NEW]

Agency Information Collection Agencies: New Collection; Comments Requested, Census of Problem-Solving Courts 2011

ACTION: 60-Day notice of information collection under review.

The Department of Justice, Office of Justice Programs, Bureau of Justice Statistics, will be submitting the following information collection request for review and clearance in accordance with the Paperwork Reduction Act of 1995. The proposed information is published to obtain comments from the public and affected agencies. Comments are encouraged and will be accepted for “sixty days” until October 25, 2011. This process is conducted in accordance with 5 CFR 1320.10.

If you have additional comments, especially on the estimated public burden or associated response time, suggestions, or need a copy of the proposed information collection instrument with instructions or additional information, please contact: Ron Malega, 202-353-0487, Bureau of Justice Statistics, Office of Justice Programs, Department of Justice, 810 Seventh Street, NW., Washington DC 20531 or Ronald.Malega@usdoj.gov.

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Ron Malega at 202-353-0487 or the DOJ Desk Officer at 202-395-3176.

Written comments and suggestions from the public and affected agencies concerning the proposed collection of information are encouraged. Your comments should address one or more of the following four points:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of collection of information on those who are to respond, including through the use of appropriate automated, electronic, mechanical, or other technological collection techniques or other forms of information technology, e.g., permitting electronic submission of responses.

Overview of this information:

1. Type of information collection: New data collection, Census of Problem-Solving Courts (CPSC), 2011

2. The title of the form/collection: Census of Problem-Solving Courts or CPSC, 2011

3. The agency form number, if any, and the applicable component of the Department sponsoring the collection: The form labels are CPSC, Bureau of Justice Statistics, Office of Justice Programs, U.S. Department of Justice.

4. Affected Public Who Will be Asked or Required to Respond, as well as a Brief Abstract: Problem-solving courts at all levels of government. Abstract: The Bureau of Justice Statistics (BJS) proposes to implement a Census of Problem-Solving Courts (CPSC). Problem-solving courts target defendants who have ongoing social and/or psychological conditions that underlie their repeated contact with the criminal justice system. Most of the existing information about problem-solving courts (PSC) consists of court evaluations or outcome analyses. No prior census of these courts has been conducted to date despite the substantial proliferation of such courts during the past thirty years. Hence, the CPSC will allow BJS to provide national level information on problem-solving courts and case processing statistics and it will also create a sampling frame of PSCs thereby enabling BJS to conduct future sample-based research on PSCs. The CPSC is designed to provide BJS and other interested stakeholders with the first systematic empirical information on problem-solving courts. A goal of the census is to obtain information on problem-solving court operations, administration, and to generate accurate and reliable statistics on adult offenders who enter problem-solving court programs. The CPSC will collect information on the following categories:

a. Court Operations

i. Does the court operate within the judiciary, have a dedicated judicial officer, or have a dedicated docket/calendar?

ii. Provide the number of problem-solving courts by type (e.g., mental health, drug, etc.)

iii. Determine PSCs level of government operations (e.g., local, state, etc.), court jurisdiction (e.g., limited, general, other) and intake of felony, misdemeanor, or status offenses

b. Funding: Types and prevalence of PSC funding (e.g., local government budget, state budget, etc.)

c. Commonly Used Services:

i. Count the types and prevalence of offender/victim services (e.g., anger management), counseling or treatment services (e.g., outpatient mental health treatment), and general supportive services (e.g., life skills)

d. Participant participation

i. Participant inclusionary and exclusionary factors,

ii. Participant point of entry (e.g. pre-plea, post-plea/pre-sentence, etc.)

e. Capacity and Enrollment

i. Total number of active participants PSC can manage at any one time

ii. Current number of active participants

f. Data Collection Practices:

i. Use of automated case management systems

ii. PSCs' ability to query information

g. PSC Participant information:

i. Percentage of program participants by age, gender, racial classification,

ii. Housing status

iii. Employment status

h. PSC information for calendar year 2011 only:

i. Number or people referred and admitted to PSCs,

ii. PSCs average participant attendance to: scheduled judicial, community supervision meetings, treatment sessions, and drug tests

iii. Number or participants exiting program,

iv. Number of participants by gender, race, and age.

Additionally, the information collected through this census will support development of a sampling framework to examine case processing information and case dispositions of adults in problem-solving courts. Information will be collected for the 2011 calendar year.

5. An Estimate of the Total Number of Respondents and the Amount of Time Estimated for an Average Respondent to Respond: Estimates suggest 3,800 respondents will take part in the Census of Problem-Solving Courts 2011. The average (mean) burden for each completed survey is almost 1 hour per respondent. The estimated range of burden for respondents is between 40 minutes to 2 hours for completion. The following factors were considered when creating the burden estimate: the total number of drug courts in the field, the total number of mental health courts, the ability of problem-solving courts (by type) to access data, and the type of data capabilities generally found in the field. Using these criteria, respondents were categorized into three groups depending upon whether they had the capacity to complete only part I or both parts (I&II) of the survey. Group A respondents will have the least access to data and complete only part one of the survey. Approximately 2,300 respondents will be in this group. It is estimated that respondents in group A will take 40 minutes to complete the survey. Group (B) respondents will complete part one of the survey and have access to only limited information necessary for part two of the survey. Approximately 1,200 respondents will be in this group. This second group of respondents will take about 1 hour and 15 minutes to complete a survey. The third group (C) of respondents will complete parts one and two of the survey; they will have the greatest access to the information required for part two of the survey. Approximately 300 respondents will be in group C. It is estimated it will take this group about 2 hours to complete the survey.

6. An Estimate of the Total Public Burden (in hours) Associated with the collection: The estimated public burden associated with this collection is 3,633 hours. Respondents were categorized into three groups depending upon whether they had the capacity to complete only part I or both parts (I&II) of the survey. Approximately 2,300 respondents will fall into the first group (A) of respondents, completing only part one of the survey. It is estimated that respondents in this group will take 40 minutes to complete a survey for a total of 1,533 hours. The second group (B) of respondents will complete part one of the survey and have access to only limited amount of information necessary for part two of the survey. The approximately 1,200 respondents in this second group of respondents will take about 1 hour and 15 minutes to complete a survey for a total of 1,500 hours. The third group (C) of respondents will complete parts one and two of the survey; they will have the greatest access to the information required for part two of the survey. It is estimated it will take the estimated 300 respondents in this group about 2 hours each to complete a survey for a total of 600 hours. When the burden hours for each group of respondents are added up the CPSC 2011 project sums to 3,633 hours (1,533 + 1,500 + 600 = 3,633).

If additional information is required contact: Jerri Murray, Department Clearance Officer, United States Department of Justice, Justice Management Division, Policy and Planning Staff, Two Constitution Square, 145 N Street, NE., Suite 2E-502, Washington, DC 20530.

Jerri Murray,
Department Clearance Officer, PRA, U.S. Department of Justice.

[FR Doc. 2011-21888 Filed 8-25-11; 8:45 am]

BILLING CODE 4410-18-P